DEPARTMENT OF COMMERCE

International Trade Administration

[A-583-853]

Certain Crystalline Silicon Photovoltaic Products From Taiwan: Preliminary Results of Antidumping Duty Administrative Review, Partial Rescission of Antidumping Duty Administrative Review and Preliminary Determination of No Shipments; 2020-2021

AGENCY: Enforcement and Compliance, International Trade Administration, Department of Commerce.

SUMMARY: In response to requests from interested parties, the Department of Commerce (Commerce) is rescinding the administrative review, in part, of the antidumping duty order on certain crystalline silicon photovoltaic products (solar products) from Taiwan during the period of review (POR), February 1, 2020, to January 31, 2021. Specifically, Commerce is rescinding the review with respect to eleven companies under review, including the mandatory respondents, Inventec Solar Energy Corporation (ISEC) and Sino-American Silicon Products Inc. (SAS), because all requests to review these companies have been timely withdrawn. Moreover, Commerce preliminarily determines that sixteen of the companies under review made no shipments of solar products from Taiwan during the POR. Finally, with respect to the companies that did not submit no-shipment certifications and were not selected as mandatory respondents, we have determined to preliminarily apply a rate of 7.89 percent, i.e., the non-selected rate from the prior administrative review under this antidumping duty order. We invite interested parties to comment on these preliminary results.

DATES: Applicable November 5, 2021.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On April 1, 2021, in accordance with 19 CFR 351.221(c)(1)(i), we initiated this administrative review of the antidumping duty order on solar products from Taiwan ¹ covering thirty-one producers and/or exporters of the subject merchandise.² On June 10, 2021, Commerce selected ISEC and SAS as the mandatory respondents.³

¹ See Certain Crystalline Silicon Photovoltaic Products from Taiwan: Antidumping Duty Order, 80 FR 8596 (February 18, 2015) (Order).

² See Initiation of Antidumping and Countervailing Duty Administrative Reviews, 86 FR 17124, 17131 (April 1, 2021) (Initiation Notice).

³ See Memorandum, “2020-2021 Antidumping Duty Administrative Review of Certain Crystalline Silicon Photovoltaic Products from Taiwan: Respondent Selection,” dated June 10, 2021.

On June 3, 2021, SunPower Manufacturing Oregon LLC (SPMOR, a domestic producer and domestic interested party) withdrew its request for administrative review of all twenty-nine companies it originally requested,⁴ and on June 30, 2021, Auxin Solar, Inc. (Auxin, a domestic producer, domestic importer, and domestic interested party) withdrew its request for review of eleven of the thirty-one companies it originally requested, including the mandatory respondents.⁵ Accordingly, pursuant to 19 CFR 351.213(d)(1), Commerce is rescinding the administrative review, in part, with respect to the companies fully withdrawn by SPMOR and Auxin. The review remains active with respect to the remaining 20 companies.⁶

⁴ See SPMOR's Letter, “Certain Crystalline Silicon Photovoltaic Products from Taiwan—Withdrawal of Request for Administrative Review,” dated June 3, 2021 (SPMOR's Withdrawal Request).

⁵ See Auxin's Letter, “Certain Crystalline Silicon Photovoltaic Products from Taiwan: Withdrawal of Request for Administrative Review of Antidumping Order,” dated June 30, 2021 (Auxin's Withdrawal Request). Auxin withdrew its request for administrative review with respect to the following companies: (1) EEPV Corporation; (2) E-TON Solar Tech. Co., Ltd.; (3) Inventec Energy Corporation; (4) Inventec Solar Energy Corporation; (5) Ming Hwei Energy Co., Ltd.; (6) Motech Industries, Inc.; (7) SAS; (8) Sunengine Corporation Ltd.; (9) TSEC Corporation; (10) United Renewable Energy Co., Ltd.; and (11) Win Win Precision Technology Co., Ltd.

⁶ The remaining companies in this administrative review are: (1) AU Optronics Corporation; (2) Baoding Jiasheng Photovoltaic Technology Co. Ltd. (Baoding Jiasheng); (3) Baoding Tianwei Yingli New Energy Resources Co., Ltd.; (4) Beijing Tianneng Yingli New Energy Resources CO. Ltd.; (5) Boviet Solar Technology Co., Ltd. (Boviet); (6) Canadian Solar Inc.; (7) Canadian Solar International, Ltd.; (8) Canadian Solar Manufacturing (Chang shu), Inc.; (9) Canadian Solar Manufacturing (Luoyang), Inc.; (10) Canadian Solar Solution Inc.; (11) Hainan Yingli New Energy Resources Co., Ltd.; (12) Hengshui Yingli New Energy Resources Co., Ltd.; (13) Kyocera Mexicana S.A. de C.V. (Kyocera); (14) Lixian Yingli New Energy Resources Co., Ltd.; (15) Shenzhen Yingli New Energy Resources Co., Ltd.; (16) Sunrise Energy Co. Ltd. (Sunrise); (17) Tianjin Yingli New Energy Resources Co., Ltd.; (18) Vina Solar; (19) Yingli Energy (China) Co., Ltd.; and (20) Yingli Green Energy International Trading Company Limited.

Methodology

Commerce is conducting this review in accordance with section 751(a)(1)(B) of Tariff Act of 1930, as amended (the Act).

Scope of the Order

The products covered by the Order are solar products from Taiwan.⁷ Imports of subject merchandise are classified under the Harmonized Tariff Schedule of the United States (HTSUS) subheadings: 8501.61.0010, 8507.20.80, 8541.40.6015, 8541.40.6025, and 8501.31.8010. These HTSUS subheadings are provided for convenience and customs purposes; the written description of the scope of the Order is dispositive.⁸

⁷ See Order.

⁸ Id.

Rescission of Administrative Review in Part

Section 351.213(d)(1) of Commerce's regulations provides that Commerce will rescind an administrative review, in whole or in part, if the party that requested the review withdraws its request for review within 90 days of the date of publication of the notice of initiation of the requested review. Commerce published the Initiation Notice on April 1, 2021.⁹ On June 3, 2021, SPMOR withdrew its request for review for all twenty-nine companies it had requested.¹⁰ On June 30, 2021, Auxin withdrew its request for review of eleven of the thirty-one companies it had originally requested: (1) EEPV CORP.; (2) E-TON Solar Tech. Co., Ltd.; (3) Inventec Energy Corporation; (4) ISEC; (5) Ming Hwei Energy Co., Ltd.; (6) Motech Industries, Inc.; (7) SAS; (8) Sunengine Corporation Ltd.; (9) TSEC Corporation; (10) United Renewable Energy Co., Ltd.; and (11) Win Win Precision Technology Co., Ltd.¹¹ Because the review requests for these eleven companies were timely withdrawn, and because no other party requested a review of any of them, we are rescinding the reviews with respect to the eleven companies stated above. The review will continue with respect to all other entities listed in the Initiation Notice.

⁹ See Initiation Notice.

¹⁰ See SPMOR's Withdrawal Request.

¹¹ See Auxin's Withdrawal Request.

Preliminary Determination of No Shipments

Sixteen producers and/or exporters under review properly filed a certification reporting that they made no shipments of subject merchandise during the POR: (1) AU Optronics Corporation (AU); ¹² (2) Canadian Solar Inc., (3) Canadian Solar International Limited, (4) Canadian Solar Manufacturing (Changshu), Inc., (5) Canadian Solar Manufacturing (Luoyang), Inc., (6) Canadian Solar Solutions Inc. (the Canadian companies); ¹³ (7) Vina Solar Technology Co., Ltd. (Vina Solar); ¹⁴ (8) Baoding Tianwei Yingli New Energy Resources Co., Ltd.; (9) Beijing Tianneng Yingli New Energy Resources Co., Ltd.; (10) Hainan Yingli New Energy Resources Co., Ltd.; (11) Hengshui Yingli New Energy Resources Co., Ltd.; (12) Lixian Yingli New Energy Resources Co., Ltd.; (13) Shenzhen Yingli New Energy Resources Co., Ltd.; (14) Tianjin Yingli New Energy Resources Co., Ltd.; (15) Yingli Energy (China) Co., Ltd.; and (16) Yingli Green Energy International Trading Company Limited (Yingli).¹⁵ On May 17, 2021, Vina Solar, the only potential respondent left in this administrative review with reviewable entries of subject merchandise during the POR, commented on Commerce's U.S. Customs and Border Protection (CBP) data release ¹⁶ that it made no shipments of subject merchandise to the United States during the POR, and that Commerce should revise the CBP data.¹⁷ No other parties commented on the CBP data release. We contacted CBP to corroborate Vina Solar's statements during the POR. We requested entry summaries from CBP to determine that Vina Solar had no entries of subject merchandise during the POR. We reviewed the entry summaries we received from CBP. Based on our analysis of these entry summaries, we did not find any information to contradict Vina Solar's claims of no shipments during the POR.¹⁸ Therefore, we preliminarily determine that none of the above sixteen companies (i.e., including Vina Solar) had shipments of subject merchandise during the POR.

¹² See AU's Letter, “Certain Crystalline Silicon Photovoltaic Products from Taiwan—Notice of No Sales or Exports,” dated April 20, 2021.

¹³ See Canadian Companies' Letter, “Crystalline Silicon Photovoltaic Products from Taiwan, Case No. A-583-853: No Shipment Letter,” dated April 27, 2021.

¹⁴ See Vina Solar's Letter, “Certain Crystalline Silicon Photovoltaic Products from Taiwan—Notice of No Sales or Exports,” dated April 30, 2021.

¹⁵ See Yingli's Letter, “Certain Crystalline Silicon Photovoltaic Products from Taiwan: Yingli's No Shipment Certification,” dated April 30, 2021.

¹⁶ See Memorandum, “Certain Crystalline Silicon Photovoltaic Products from Taiwan: Release of Customs and Border Protection Data,” dated May 10, 2021 (CBP Data Release).

¹⁷ See Vina Solar's Letter, “Certain Crystalline Silicon Photovoltaic Products from Taiwan: Comment on CBP Data,” dated May 17, 2021.

¹⁸ Commerce issued a no-shipment inquiry to CBP on June 6, 2021. See Memorandum, “Notification of Receipt of U.S. Entry Documents,” dated July 2, 2021.

Consistent with Commerce's practice,¹⁹ Commerce finds that it is not appropriate to rescind the review with respect to these sixteen companies, but rather to complete the review and issue appropriate instructions to CBP based on the final results of this review.

¹⁹ See, e.g., Heavy Walled Rectangular Welded Carbon Steel Pipes and Tubes from the Republic of Turkey: Preliminary Results of Antidumping Duty Administrative Review and Preliminary Determination of No Shipments; 2017-2018, 84 FR 34863 (July 19, 2019), and accompanying Preliminary Decision Memorandum at 4.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In the instant review, the CBP data query ²⁰ did not show any entries of subject merchandise exported by Baoding Jiasheng, Boviet, Kyocera, or Sunrise ²¹ during the POR, the remaining non-selected respondents that did not submit a certification of no shipments. Thus, there is no basis for selecting any of the above companies as mandatory respondents.²² Accordingly, because there are no companies in the instant review for which we are calculating a rate that can be applied to the above companies, we have determined to preliminarily apply a rate of 7.89 percent to Baoding Jiasheng, Boviet, Kyocera, and Sunrise as non-selected respondents, which is the weighted-average dumping margin determined and assigned to the non-selected respondents in the previous (fifth) administrative review of the Order.²³

²⁰ See CBP Data Release.

²¹ These three companies are the remaining non-selected respondents in this review that did not submit letters of no shipment.

²² See CBP Data Release at Attachment.

²³ See Certain Crystalline Silicon Photovoltaic Products from Taiwan: Final Results of Antidumping Duty Administrative Review; Partial Rescission of Antidumping Duty Administrative Review; Final Determination of No Shipments; 2019-2020, 86 FR 49509, 49510-11 (September 3, 2021), and accompanying Issues and Decision Memorandum.

Public Comment

Interested parties may submit case briefs no later than 30 days after the date of publication of this notice.²⁴ Rebuttal briefs, limited to issues raised in the case briefs, may be filed no later than seven days after the time limit for filing case briefs.²⁵ Parties who submit case briefs or rebuttal briefs in this proceeding are encouraged to submit with each argument: (1) A statement of the issue; (2) a brief summary of the argument; and (3) a table of authorities.²⁶ Case and rebuttal briefs must be filed electronically via Enforcement and Compliance's Antidumping and Countervailing Duty Centralized Electronic Service System (ACCESS) and must also be served on interested parties.

²⁴ See 19 CFR 351.309(c)(1)(ii).

²⁵ See 19 CFR 351.309(d)(1).

²⁶ See 19 CFR 351.309(c)(2) and (d)(2); see also Temporary Rule Modifying AD/CVD Service Requirements Due to COVID19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety in ACCESS by 5 p.m. Eastern Time within 30 days after the date of publication of this notice.²⁷ Hearing requests should contain: (1) The interested party's name, address, and telephone number; (2) the number of participants; and (3) a list of issues to be discussed. Issues raised in the hearing will be limited to issues raised in the briefs. If a request for a hearing is made, Commerce intends to hold the hearing at a time and date to be determined.²⁸ Commerce intends to issue the final results of this administrative review, including the results of its analysis raised in any written briefs, no later than 120 days after the publication of these preliminary results in the Federal Register, unless otherwise extended.²⁹

²⁷ See 19 CFR 351.310(c).

²⁸ Id.

²⁹ See section 751(a)(3)(A) of the Act; see also 19 CFR 351.213(h).

Assessment Rates

Upon issuance of the final results, Commerce will determine, and CBP shall assess, antidumping duties on all appropriate entries covered by this review.³⁰ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

³⁰ See 19 CFR 351.212(b).

As discussed above, we are rescinding the review with respect to eleven companies, including the mandatory respondents. For the companies that were not selected for individual examination but did not file no shipment certifications, upon issuance of the final results, we will instruct CBP to assess antidumping duties at an ad valorem rate equal to the non-selected rate, which we preliminarily determine to be 7.89 percent, as described above.

In accordance with Commerce's “automatic assessment” practice, for entries of subject merchandise during the POR produced by each respondent which did not know that its merchandise was destined for the United States, and for all the companies for which we reach final findings of no shipments, we will instruct CBP to liquidate entries not reviewed at the all-others rate established in the original less-than-fair value (LTFV) investigation (i.e., 19.50 percent) if there is no rate for the intermediate company(ies) involved in the transaction.

Cash Deposit Requirements

The following cash deposit requirements will be in effect for all shipments of the subject merchandise entered, or withdrawn from warehouse, for consumption on or after the publication date of the final results of this administrative review, as provided by section 751(a)(2)(C) of the Act: (1) The cash deposit rate for the companies receiving the non-selected rate will be the rate established in the final results of this review, (except if the rate is de minimis within the meaning of 19 CFR 351.106(c)(1), in which case the cash deposit rate will be zero); (2) For merchandise exported by manufacturers or exporters not covered in this review but covered in a prior segment of the proceeding, the cash deposit rate will continue to be the company-specific rate published for the most recently-completed segment; (3) if the exporter is not a firm covered in a prior review, or the original investigation, but the manufacturer is, then the cash deposit rate will be the rate established for the most recently completed segment for the manufacturer of the merchandise; and (4) the cash deposit rate for all other manufacturers or exporters will continue to be 19.50 percent, the all-others cash deposit rate established in the Final Determination of the less than fair value investigation of solar products from Taiwan.³¹ These cash deposit requirements, when imposed, shall remain in effect until further notice.

³¹ See Certain Crystalline Silicon Photovoltaic Products from Taiwan: Final Determination of Sales at Less Than Fair Value, 79 FR 76966 (December 23, 2014).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act, and 19 CFR 351.213(h)(1) and 351.221(b)(4).

Dated: November 1, 2021.
Ryan Majerus,
Deputy Assistant Secretary for Policy and Negotiations, performing the non-exclusive functions and duties of the Assistant Secretary for Enforcement and Compliance.

[FR Doc. 2021-24257 Filed 11-4-21; 8:45 am]

BILLING CODE 3510-DS-P